DEPARTMENT OF THE INTERIOR

National Park Service

Golden Gate National Recreation Area; Notice of Proposed Year-Round Closure at Fort Funston and Request for Comments

DATE: Friday, July 14, 2000.

ACTION: Notice and request for comments.

SUMMARY: In accordance with the resource protection mandate of the National Park Service (NPS), the Golden Gate National Recreation Area, NPS, is announcing its proposal to close year-round approximately 12 acres of Fort Funston to off-trail recreational use by the public. The closure is located in the northwest portion of Fort Funston. This closure is necessary to protect habitat for the California threatened bank swallows (Riparia riparia), enhance significant native plant communities, improve public safety and reduce human-induced impacts to the coastal bluffs and dunes, a significant geological feature. NPS invites comments on this proposed year-round closure.

Background: Section 1.5 of Title 36 of the Code of Federal Regulations authorizes the Superintendent to effect closures and public use limits within a national park unit when necessary for the maintenance of public health and safety, protection of environmental or scenic values, protection of natural or cultural resources, aid to scientific research, implementation of management responsibilities, equitable allocation and use of facilities, or the avoidance of conflict among visitor use activities. The proposed closure at Fort Funston is necessary to protect public safety, to protect environmental values and natural resources, and to implement management responsibilities. Because of a May 16, 2000, Federal District Court ordered preliminary injunction against the NPS, disallowing the closure until such time as appropriate public notice and opportunity for comment was provided, NPS is providing this notice and invites comments from the public on this proposed year-round closure.

Reference: Public Law 92-589 of October 27, 1972, as amended, as codified in Title 16 United States Code Sections 460bb through 460bb-5. Title 16 United States Code Sections 1 and la-1. Title 36 Code of Federal Regulations Sections 1.5, 1.7, 2.1, and 2.15. Ft. Funston Dog Walkers v. Babbitt, No. C 00-00877 WHA, N.D. Cal., Preliminary Injunction, May 16, 2000.

Comments: Public comments will be accepted for a period of 60 calendar days from the date of this notice. Therefore, public comments on this notice must be received by September 12, 2000. Public comments should be submitted to NPS as early as possible in order to assure their maximum consideration. Comments will be considered and this proposal may be modified accordingly, and the final decision of the National Park Service will be published in the Federal Register.

If individuals submitting comments request that their name and/or address be withheld from public disclosure, it will be honored to the extent allowable by law. Such requests must be stated prominently at the beginning of the comments. There also may be circumstances wherein the NPS will withhold a respondent's identity as allowable by law. As always, NPS will make available for public inspection all submissions from organizations or businesses and from persons identifying themselves as representatives or officials of organizations and businesses; and, anonymous comments may not be considered.

Send Comments To: Superintendent, Golden Gate National Recreation Area, Bay and Franklin Streets, Building 201, Ft. Mason, San Francisco, 94123.

Further Information: Detailed information concerning this proposal, including a map depicting the closure area and open park trails, is available at the following locations:

• Fort Funston Visitor Center and Ranger Office, ¼ mile south of John Muir Drive, on the west side of Hwy 35, Golden Gate National Recreation Area, National Park Service, San Francisco

• Pacific West Information Center, National Park Service, Building 201, Fort Mason, Bay and Franklin Streets, San Francisco

• San Francisco Public Library, Marina Branch, 1890 Chestnut Street, San Francisco

• San Francisco Public Library, Sunset Branch, 1305 18th Avenue, San Francisco

Contact: For further information, contact Scalla Sheen, Office of Public Affairs, GGNRA at 415-561-4730.

Brian O'Neill,
Superintendent, GGNRA.

[FR Doc. 00-18112 Filed 7-17-00; 8:45 am]

BILLING CODE 4310-70-P